DEPARTMENT OF LABOR

Agency Information Collection Activities; Submission for OMB Review; Comment Request, Implementation Evaluation of the National Health Emergency (NHE) Demonstration Grants To Address the Opioid Crisis, New Collection

AGENCY: Office of the Assistant Secretary for Policy, Chief Evaluation Office, Department of Labor.

ACTION: Notice of Information Collection; request for comment.

SUMMARY: The Department of Labor (DOL), as part of its continuing effort to reduce paperwork and respondent burden, conducts a preclearance consultation program to provide the general public and federal agencies with an opportunity to comment on proposed and/or continuing collections of information in accordance with the Paperwork Reduction Act of 1995 (PRA95). This program helps to ensure that requested data can be provided in the desired format, reporting burden (time and financial resources) is minimized, collection instruments are clearly understood, and the impact of collection requirements on respondents is properly assessed. Currently, the Department of Labor is soliciting comments concerning the collection of data about the Implementation Evaluation of the National Health Emergency Demonstration Grants to Address the Opioid Crisis. A copy of the proposed Information Collection Request (ICR) can be obtained by contacting the office listed below in the addressee section of this notice.

DATES: Written comments must be submitted to the office listed in the addressee's section below on or before February 25, 2019.

ADDRESSES: You may submit comments by either one of the following methods:

Email: ChiefEvaluationOffice@dol.gov; Mail or Courier: Jennifer Daley, Chief Evaluation Office, OASP, U.S. Department of Labor, Room S-2312, 200 Constitution Avenue NW, Washington, DC 20210. Instructions: Please submit one copy of your comments by only one method. All submissions received must include the agency name and OMB Control Number identified above for this information collection. Comments, including any personal information provided, become a matter of public record. They will also be summarized and/or included in the request for OMB approval of the information collection request.

FOR FURTHER INFORMATION CONTACT: Jennifer Daley by email at ChiefEvaluationOffice@dol.gov or by phone at (202) 693-5913.

SUPPLEMENTARY INFORMATION:

I. Background: The Chief Evaluation Office (CEO) of the U.S. Department of Labor (DOL) intends to design and conduct information collection activities to provide data for the implementation evaluation of the National Health Emergency (NHE) Demonstration Grants to Address the Opioid Crisis. DOL awarded $22 million in NHE grants to six states in 2018. States have proposed a variety of strategies including services for individuals or family members affected by opioid addiction, training for workers to address the crisis, and system-wide investments to align workforce services with services provided by other organizations at the state and local levels. The implementation study of the grants will address four research questions: (1) How were the grants implemented, what services were provided, and what factors influenced implementation and job placement and retention?; (2) Who were the major partners involved and what services did they provide?; (3) What challenges did grantees encounter in implementation and how were those addressed?; and (4) What practices developed under the grant appear to be promising or potentially promising?

This Federal Register Notice provides the opportunity to comment on proposed data collection instruments that will be used in the implementation evaluation: Key informant interview protocols, survey of key informants (state- and local-level administrators) and a program participant interview guide.

1. Key informant interview protocol. The protocol will be used during site visits to the grantees to collect information from administrators and staff at the state- and local-level, and with partner organizations and employers at either the state or local level. Issues to be covered include the state and local community context, strategies and approaches to service delivery, target populations and recruiting, the role of various partners in grant and subgrant activities, successes and challenges, preliminary outcomes, promising practices, and other topics.

2. Survey of key informants. This short questionnaire for key informants (administrators and staff at the state- and local-level) includes basic background information, such as their highest education level and experience, and brief questions about their perspectives on the opioid crisis and the state's partnerships to address the crisis.

3. Program participant interview guide. The guide will be used for individual or group discussions with approximately 10 program participants in each state. Topics will include participant background, service receipt, participants' views on the quality and effectiveness of the workforce services received, and their current or anticipated labor market experiences as a result of the services.

II. Desired Focus of Comments: Currently, the Department of Labor is soliciting comments concerning the above data collection for the Implementation Evaluation of the National Health Emergency (NHE) Demonstration Grants to Address the Opioid Crisis. DOL is particularly interested in comments that do the following:

○ Evaluate whether the proposed collection of information is necessary for the proper performance functions of the agency, including whether the information will have practical utility;

○ evaluate the accuracy of the agency's burden estimate of the proposed information collection, including the validity of the methodology and assumptions;

○ enhance the quality, utility, and clarity of the information to be collected; and

○ minimize the burden of the collection of information on those who are to respond, including through the use of appropriate automated, electronic, mechanical, or other technological collection techniques or other forms of information technology—for example, permitting electronic submissions of responses.

III. Current Actions: At this time, DOL is requesting clearance for the key informant interview protocol, written survey for key informants, and a program participant interview guide.

Type of Review: New information collection request.

OMB Control Number: 1290-0NEW.

Affected Public: NHE grantee administrators, participants, and partners.

Comments submitted in response to this request will be summarized and/or included in the request for Office of Management and Budget approval of the information collection request; they will also become a matter of public record.

Estimated Annual Burden Hours
Type of instrument | Number of respondents | Number of responses per respondent | Average burden time per response (hours) | Estimated burden hours
Key informant interview protocol: state and local administrator, staff, and partners ᵇ | 60 | 1 | 1 | 60
Survey: State and local staff and partners | 60 | 1 | 0.17 | 10
Program participant interview guide | 20 | 1 | 1 | 20
Total | 140 |  |  | 90
ᵃ The study is scheduled to take three years.
ᵇ Assumes each visit will, on average, involve individual or group interviews with approximately 30 respondents. The team assumes the average burden time per response to be about 1 hour, although some meetings will be shorter and some will be longer.

Molly Irwin,
Chief Evaluation Officer, U.S. Department of Labor.

[FR Doc. 2018-27919 Filed 12-21-18; 8:45 am]

BILLING CODE 4510-HX-P